DEPARTMENT OF JUSTICE

Antitrust Division

Notice Pursuant to the National Cooperative Research and Production Act of 1993—Applications Work Order Collaboration (AWOC)

Notice is hereby given that, on December 7, 2006, pursuant to Section 6(a) of the National Cooperative Research and Production Act of 1993, 15 U.S.C. 4301 et seq. (“the Act”), Applications Work Order Collaboration (“AWOC”) has filed written notifications simultaneously with the Attorney General and the Federal Trade Commission disclosing (1) The identities of the parties to the venture and (2) the nature and objectives of the venture. The notifications were filed for the purpose of invoking the Act's provisions the recovery of antitrust plaintiffs to actual damages under specified circumstances.

Pursuant to Section 6(b) of the Act, the identities of the parties to the venture are: DaimlerChrysler Research and Technology North America, Inc., Palo Alto, CA; Delphi Automotive Systems, LLC, Troy, MI; Ford Motor Co., Dearborn, MI; Mark IV, IVHS, Inc., Flemington, NJ; NAVTEQ North America, LLC, Chicago, IL; and Raytheon Co., Fullerton, CA. The general area of AWOC's planned activity is the development of specified applications to be integrated into the vehicle infrastructure integration system, a national infrastructure to enable data collection and exchange in real time between vehicles and vehicles and the roadway.

Patricia A. Brink,
Deputy Director of Operations, Antitrust Division.

[FR Doc. 06-9910 Filed 12-27-06; 8:45 am]

BILLING CODE 4410-11—M